DEPARTMENT OF HEALTH AND HUMAN SERVICES

Administration for Children and Families

Proposed Information Collection Activity; Comment Request

Proposed Projects

Title: Compassion Capital Fund Evaluation—Intermediary Survey.

OMB No.: New Collection.

Description: This proposed information collection activity is for a survey to be completed by Compassion Capital Fund intermediary grantees as a part of the outcome and impact study components of the Compassion Capital Fund Evaluation.

The Compassion Capital Fund Evaluation is a multi-component study designed to examine the effectiveness of the Compassion Capital Fund (CCF) in meeting its objective of improving the organizational capacity of faith-based and community organizations. The CCF program works through intermediary organizations to provide capacity building assistance to interested faith-based and community organizations. The purpose of this data collection activity is to obtain more detailed information about the management processes and service delivery and monitoring approaches used by CCF intermediaries in providing technical and financial assistance to increase the organizational capacity of faith-based and community organizations.

Respondents: CCF intermediary grantees.

Annual Burden Estimates
Instrument | Number of respondents | Number of responses per respondent | Average burden hours per response | Total burden hours
Intermediary survey | 60 | 1 | .5 | 30

Estimated Total Annual Burden Hours:

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Office. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: August 4, 2006.
Robert Sargis,
Reports Clearance Officer.

[FR Doc. 06-6841 Filed 8-10-06; 8:45 am]

BILLING CODE 4184-01-M